DEPARTMENT OF TRANSPORTATION

Federal Motor Carrier Safety Administration

[Docket No. FMCSA-2023-0031]

Qualification of Drivers; Exemption Applications; Epilepsy and Seizure Disorders

AGENCY: Federal Motor Carrier Safety Administration (FMCSA), Department of Transportation (DOT).

ACTION: Notice of denials.

SUMMARY: FMCSA announces its decision to deny applications from 132 individuals who requested an exemption from the Federal Motor Carrier Safety Regulations (FMCSRs) prohibiting persons with a clinical diagnosis of epilepsy or any other condition that is likely to cause a loss of consciousness or any loss of ability to operate a commercial motor vehicle (CMV) from operating CMVs in interstate commerce.

FOR FURTHER INFORMATION CONTACT: Ms. Christine A. Hydock, Chief, Medical Programs Division, FMCSA, Department of Transportation, 1200 New Jersey Avenue SE, Room W64-224, Washington, DC 20590-0001, (202) 366-4001, fmcsamedical@dot.gov. Office hours are from 8:30 a.m. to 5 p.m. ET Monday through Friday, except Federal holidays. If you have questions regarding viewing material in the docket, contact Dockets Operations, (202) 366-9826.

SUPPLEMENTARY INFORMATION:

I. Public Participation

A. Comments

To view comments go to www.regulations.gov. Insert the docket number (FMCSA-2023-0031) in the keyword box, and click “Search.” Next, sort the results by “Posted (Newer-Older),” choose the first notice listed, and click “Browse Comments.” If you do not have access to the internet, you may view the docket online by visiting Dockets Operations in Room W12-140 on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

B. Privacy Act

In accordance with 49 U.S.C. 31315(b)(6), DOT solicits comments from the public on the exemption request. DOT posts these comments, without edit, including any personal information the commenter provides, to www.regulations.gov. As described in the system of records notice DOT/ALL 14 (Federal Docket Management System), which can be reviewed at https://www.transportation.gov/individuals/privacy/privacy-act-system-records-notices, the comments are searchable by the name of the submitter.

II. Background

FMCSA received applications from 132 individuals who requested an exemption from the FMCSRs prohibiting persons with a clinical diagnosis of epilepsy or any other condition that is likely to cause a loss of consciousness or any loss of ability to operate a CMV from operating CMVs in interstate commerce.

FMCSA has evaluated the eligibility of these applicants and concluded that granting these exemptions would not provide a level of safety that would be equivalent to, or greater than, the level of safety that would be obtained by complying with § 391.41(b)(8).

III. Basis for Exemption Determination

Under 49 U.S.C. 31136(e) and 31315(b), FMCSA may grant an exemption from the FMCSRs for no longer than a 5-year period if it finds such exemption would likely achieve a level of safety that is equivalent to, or greater than, the level that would be achieved absent such exemption. The statute also allows the Agency to renew exemptions at the end of the 5-year period. FMCSA grants medical exemptions from the FMCSRs for a 2-year period to align with the maximum duration of a driver's medical certification. The Agency's decision regarding these exemption applications is based on the eligibility criteria, the terms and conditions for Federal exemptions, and an individualized assessment of each applicant's medical information provided by the applicant.

IV. Conclusion

The Agency has determined that these applicants do not satisfy the eligibility criteria or meet the terms and conditions of the Federal exemption and granting these exemptions would not provide a level of safety that would be equivalent to, or greater than, the level of safety that would be obtained by complying with § 391.41(b)(8). Therefore, the 132 applicants in this notice have been denied exemptions from the physical qualification standards in § 391.41(b)(8).

Each applicant has, prior to this notice, received a letter of final disposition regarding his/her exemption request. Those decision letters fully outlined the basis for the denial and constitute final action by the Agency. This notice summarizes the Agency's recent denials as required under 49 U.S.C. 31315(b)(4) by periodically publishing names and reasons for denial.

The following 132 applicants do not meet the minimum time requirement for being seizure-free, either on or off of anti-seizure medication:

Gary Abels (MN)

Zachary Adams (MS)

William Allen (MI)

Evan Bailey (CA)

Sherman Ballard (FL)

Eduardo Barboza (CA)

Michael Bartelt (WI)

Mark Bartlebaugh (TN)

Austin Baze (CA)

Duncan Bennett (TN)

Blake Bloddington (KS)

Gary Bohl (WY)

Alber Brown (GA)

Kenneth Brown (IN)

Dwight Bryson (VA)

Steven Bucklin (IL)

Rashawn Buggs (OH)

Walter Burks (MS)

Todd Burrey (OH)

Galen Butcher (WA)

Lydia Capelle (WY)

Pietro Capobianco (NJ)

Robert Carels (PA)

William Carol III (MD)

Perry Chase (VT)

Michael Curtin (NY)

Charles Curtis (NC)

Wade Davis (NC)

Jean Daza (NJ)

Aristedes Debarros (RI)

Michael Di Leonard (NY)

Joseph S. Drion (MO)

Gregory Durmaz (WA)

Kenneth Eife (NJ)

John Engle (IN)

Natalia Ericson (CA)

Marie Evans (TX)

Tray Freeman (NC)

Logan Fry (WA)

Drew Gettel (CO)

Timothy Gilroy (IA)

Chandler Gneiting (ID)

Dakota Graham (ID)

Anthony Gray (GA)

Charlotte Greek (CA)

Denise Gristi (CA)

Mario Gutierrez (CO)

Elton Hardin (IN)

Zachary Harkcom (PA)

Eric Harmon (MD)

Victor Haugen (NC)

Alexander Heckler (GA)

Christopher Hensel (MN)

Patricia Herman (CT)

Zachary Hewitt (PA)

Michael Holden (FL)

Barry Huan (TN)

Christine Jacks (AL)

Shaheed Jackson (GA)

Raymond Jackson (IL)

Richard Jeromchek (WA)

Preston Keim (IN)

Leonard King (NC)

Brandon Koole (MI)

Scotty Kuester (GA)

Jeffery Kueter (IA)

Bradley Kurtz (VA)

Sara Lockhart (MO)

Shane Lore (NJ)

Demon Lowe (NC)

Gabriella Lugtu (CA)

Blake Mallet (MA)

Douglas Mallon (NH)

Cole Martin (NC)

Matthew May (CT)

Taylor McBride (VA)

Nakia McCormick (NY)

Joseph Miller (IA)

Justin Moeller (IA)

Daniel Motisi (CO)

Brandon Muarry (IN)

Cole Neard (MT)

Glen Nelle (AR)

James Nicklasson (NE)

Sarah Ogle (IN)

Louis Orenstein (CO)

David Overhoff (NY)

Todd Paiano (NJ)

Richard Parsons (KS)

Tony Pearl (TN)

Robert Pinkston (NC)

Laci Poffenberger (MR)

Blake Quilia (VT)

Anthony Raasch (MI)

Donald Richard (VT)

Kevin Riggenbach (OH)

Clinton Rogers (MA)

Jay Rohde (MN)

Eric Rosello (DE)

Bryson Rowley (UT)

Ernest Sang (NC)

William Saucier (MN)

William Schaap (NJ)

Jason Shaw (IN)

Michael Shea (NJ)

Chad Shelhart (AZ)

Daryl Shupp (PA)

Michael Sifford (ID)

Paritpal Singh (CA)

Randall Slavik (MO)

Zachary Smith (IL)

Wesley Smith (UT)

Jeffrey Smith Jr. (FL)

Tammy Snyder (NC)

Lucas Sorey (NC)

Timothy Stassel (MO)

Christopher Strawbridge (WI)

Joshua Thomason (SC)

Sean Treacy (PA)

Darby Tyler (WA)

Dimitra Tzortzis (GA)

Glenn Utter (AZ)

Paul Warren (ME)

Ryan Welder (PA)

Michael Weymouth (NH)

Cade Whitaker (ID)

George Wihoit (PA)

Steven Willett (MA)

Garrett Williams (CA)

James Wilson (TN)

Richard Wisor (PA)

Christian Yesbeck (VA)

Larry W. Minor,
Associate Administrator for Policy.

[FR Doc. 2023-07191 Filed 4-5-23; 8:45 am]

BILLING CODE 4910-EX-P